DEPARTMENT OF ENERGY

Federal Energy Regulatory Commission

[Docket Nos. CP96-711-003, CP96-711-004, CP96-712-005, and CP96-719-003]

Discovery Gas Transmission, LLC; Notice of Compliance Filing

June 26, 2002.

Take notice that on May 31, 2002, Discovery Gas Transmission LLC. (Discovery) tendered for filing revised tariff sheets to its FERC Gas Tariff, Original Volume No. 1, to be effective July 1, 2002. Discovery states that the purpose of the limited Section 4 filing is to submit revised tariff sheets and supporting workpapers in compliance with Ordering Paragraph C of the Commission's Order Denying Rehearing and Granting Clarification, issued on October 11, 2001, in Discovery Producer Services LLC's Docket No. CP96-711-002 and Discovery Gas Transmission LLC's Docket Nos. CP96-712-004 and CP96-719-002. The October 11, 2002, order directed Discovery to file tariff sheets that state separate gathering rates for those facilities that the Commission determined, in its underlying July 25, 2001, order, to be gathering facilities.

Included in Appendix B of the filing are the worksheets supporting the allocation of the transmission rates and gathering rates on a gross plant basis. Discovery states that copies of the filing are being mailed to affected customers and interested state commissions.

Any person desiring to be heard or to protest this filing should file a motion to intervene or protest with the Federal Energy Regulatory Commission, 888 First Street, NE., Washington, DC 20426, in accordance with Sections 385.211 and 384.214 of the Commission's Rules of Practices and Procedures. All such motions and comments must be filed in accordance with Section 154.210 of the Commission's regulations. Protests will be considered by the Commission in determining the appropriate action to be taken, but will not serve to make protestants parties to the proceeding. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the Internet in lieu of paper (see 18 CFR 385.2001(a)(1)(iii) and the instructions on the Commission's web site at http://www.ferc.fed.us/efi/doorbell.htm). Applicant's designated contact person is Kevin Rehm at 713-215-2694.

Linwood A. Watson, Jr.,
Deputy Secretary.

[FR Doc. 02-16605 Filed 7-1-02; 8:45 am]

BILLING CODE 6717-01-P